DEPARTMENT OF COMMERCE

National Institute of Standards and Technology

AGENCY: National Institute of Standards and Technology, Commerce.

ACTION: Notice of Prospective Grant of Exclusive Patent License.

SUMMARY: This is a notice in accordance with 35 U.S.C. 209(c)(1) and 37 CFR 404.7(a)(1)(i) that the National Institute of Standards and Technology (“NIST”), U.S. Department of Commerce, is contemplating the grant of an exclusive license in the United States of America, its territories, possessions and commonwealths, to NIST's interest in the invention embodied in U.S. Patent No. 6,088,679 (Application No. 08/980,908), titled “Workflow Management Employing Role-based Access Control,” NIST Docket No. 96-052 to Rockwise, Inc., having a place of business at 223 Surnac Circle, Morgantown, WV 26508. The grant of the license would be for the field of use: HealthCare Information Technology.

FOR FURTHER INFORMATION CONTACT: J. Terry Lynch, National Institute of Standards and Technology, Office of Technology Partnerships, 100 Bureau Drive, Stop 2200, Gaithersburg, MD 20899, Phone 301-975-2691.

SUPPLEMENTARY INFORMATION: The prospective exclusive license will be royalty bearing and will comply with the terms and conditions of 35 U.S.C. 209 and 37 CFR 404.7. The prospective exclusive license may be granted unless, within thirty days from the date of this published Notice, NIST receives written evidence and argument which establish that the grant of the license would not be consistent with the requirements of 35 U.S.C. 209 and 37 CFR 404.7. The availability of the invention for licensing was published in the Federal Register on March 4, 1998.

U.S. Patent No. 6,088,679 is owned by the U.S. government, as represented by the Secretary of Commerce. The patent involves a workflow sequence specified by a process definition that is managed by a workflow management system which enacts each segment in the order specified by that process definition. Role-based access control (RBAC) is used to define membership of individuals in groups, i.e., to assign individuals to roles, and to then activate the roles with respect to the process at appropriate points in the sequence. Any individual belonging to the active role can perform the next step in the business process. Changes in the duties and responsibilities of individuals as they change job assignments are greatly simplified, as their role memberships are simply reassigned; the workflow process is unaffected.

Dated: February 17, 2010.
Marc G. Stanley,
Acting Deputy Director.

[FR Doc. 2010-3501 Filed 2-22-10; 8:45 am]

BILLING CODE 3510-13-P